DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236, as detailed below.

[Docket Number FRA-2001-9972]

Applicant: CSX Transportation, Inc., John R. Rimer, Director of Locomotive Engineering, Mechanical Operations, 500 Water Street—J340, Jacksonville, Florida 32202.

As a point of clarification, FRA has requested that CSX Transportation (CSXT) submit an application request for a modification to a signal system that has previously been made.

Upon installation of the Advanced Civil Speed Enforcement System (ACSES) required by the Order of Particular Applicability, FRA Docket Number 2001-9972 (formerly FRA Docket No. 87-2, Notice No. 7 issued on July 22, 1998), CSXT became aware of frequent nuisance penalty brake applications being experienced while performing routine freight switching maneuvers. The circumstances of the situation are as described below.

As a method of “roll-away” protection, ACSES required a train to be at 0 miles per hour (mph) with the reverser centered. If a train was not at 0 mph and the reverser was centered, the condition was recognized by ACSES as a moving train not intended to be moving, and therefore a possible roll-away. Freight trains, unlike passenger trains, do a lot of back and forth movements, with the reverser moved through the neutral position numerous times, as the locomotive switches in and out of a yard or work a business along the Northeast Corridor (NEC).

In 2001, CSXT, while hosting bi-monthly ACSES problem-solving meetings with Amtrak, FRA, and system suppliers PHW and Alstom, proposed and executed a modification (Number M-0122) which was external to ACSES that made ACSES act as through the reverser was in forward, while it was actually centered. This allowed CSXT engineers to perform freight switching activities without the nuisance penalty brake applications described above.

This modification also disabled a portion of ACSES roll-away protection, which was intended to have ACSES prevent a train from rolling away in the event the train brakes were not set properly and an end was not selected. This accounted for the immediate recognition of a roll-away condition no longer being available if a train's speed was not 0 mph. However, as a train's speed began to increase with the reverser centered (as would be the case in a standing train should it begin to roll away), the alerter function is enabled and within a short period of time (30 to 60 seconds depending on gained speed), the brakes will be set.

CSXT does not believe that the ACSES roll-away protection function was intended to be active while a train is being brought to a stop such as within switching movements. CSXT has operated with modification M-0122 since September 30, 2001, without incident. CSXT was requested to, and has submitted, a request for regulatory relief to use this modification on their GP-40-2 locomotives.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should be identified by Docket Number FRA-2001-9972 and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on November 7, 2008.
Grady C. Cothen, Jr.,
Deputy Associate Administrator for Safety Standards and Program Development.

[FR Doc. E8-27077 Filed 11-13-08; 8:45 am]

BILLING CODE 4910-06-P